COMMITTEE FOR THE IMPLEMENTATION OF TEXTILE AGREEMENTS

Amendment of Scope of Import Limit for Certain Man-Made Fiber Textile Products Produced or Manufactured in Belarus

June 24, 2004.

AGENCY: Committee for the Implementation of Textile Agreements (CITA).

ACTION: Issuing a directive to the Commissioner, Bureau of Customs and Border Protection, amending the scope of the import limit for Category 622-N.

EFFECTIVE DATE: July 1, 2004.

FOR FURTHER INFORMATION CONTACT: Naomi Freeman, International Trade Specialist, Office of Textiles and Apparel, U.S. Department of Commerce, (202) 482-4212. For information on the quota status of this limit, refer to the Quota Status Reports posted on the bulletin boards of each Customs port, call (202) 927-5850, or refer to the Bureau of Customs and Border Protection Web site at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

On January 10, 2003, the Governments of the United States and Belarus entered into a Memorandum of Understanding, which called for a sublimit on Category 622-N. As the United States and Belarus were not able to reach agreement on the terms of this sublimit, on March 5, 2004 the Chairman of CITA directed Customs and Border Protection to impose a sublimit on Category 622-N pending agreement with the Government of Belarus on its terms, noting that this sublimit might be revised if the Governments of the United States and Belarus reached agreement on the terms of the sublimit.

In a Memorandum of Understanding dated May 13, 2004, the Governments of the United States and Belarus agreed to the terms of the sublimit for Category 622-N. Effective on July 1, 2004, the interagency Committee for the Statistical Annotation of the Tariff Schedule amended the Harmonized Tariff Schedule of the United States (HTSUS) with respect to the statistical subheadings covered by Category 622-N.

In the letter published below, the Chairman of CITA directs the Commissioner of Customs and Border Protection to amend the HTSUS subheadings covered by Category 622-N to implement the May 13, 2004 Memorandum of Understanding.

A description of the textile and apparel categories in terms of HTS numbers is available in the CORRELATION: Textile and Apparel Categories with the Harmonized Tariff Schedule of the United States (see Federal Register notice 69 FR 4926, published on February 2, 2004). See also 69 FR 10429, published on March 5, 2004.

D. Michael Hutchinson,
Acting Chairman, Committee for the Implementation of Textile Agreements.

Committee for the Implementation of Textile Agreements

June 24, 2004.

Commissioner,

Bureau of Customs and Border Protection, Washington, DC 20229.

Dear Commissioner: This directive amends, but does not cancel, the directive issued to you on March 1, 2004, by the Chairman, Committee for the Implementation of Textile Agreements. That directive concerns imports of certain man-made fiber textile products in Category 622-N, produced or manufactured in Belarus and exported during the period which began on January 1, 2004 and extends through December 31, 2004.

To implement and monitor provisions of the Memorandum of Understanding (MOU) reached with the Government of Belarus dated May 13, 2004, you are directed, effective on July 1, 2004, to amend the restriction on Category 622-N set forth in the above-referenced directive by amending the Harmonized Tariff Schedule of the United States (HTSUS) numbers subject to Category 622-N as follows:

HTSUS Change
Category 622-N
7019.52.40.20 becomes 7019.52.40.21
7019.52.90.20 becomes 7019.52.90.21
7019.59.40.20 becomes 7019.59.40.21
7019.59.90.20 becomes 7019.59.90.21

The Committee for the Implementation of Textile Agreements has determined that this action falls within the foreign affairs exception of the rulemaking provisions of 5 U.S.C. 553(a)(1).

Sincerely,

D. Michael Hutchinson,

Acting Chairman, Committee for the Implementation of Textile Agreements.

[FR Doc. 04-14774 Filed 6-29-04; 8:45 am]

BILLING CODE 3510-DR-S